SOCIAL SECURITY ADMINISTRATION

Notice of Teleconference

AGENCY: Social Security Administration (SSA).

ACTION: Notice of teleconference.

DATES: June 22, 2001, 1:30-4 p.m., EDT.

ADDRESSES: Teleconference: Ticket to Work and Work Incentives Advisory Panel Office, Social Security Administration, 400 Virginia Avenue, SW., Suite 700, Washington, DC 20024; Call-in number: 1-888-791-2132; Pass code: 12211.

SUPPLEMENTARY INFORMATION: Type of meeting: This teleconference meeting is open to the public. The public is invited to participate by coming to the address listed above or calling into the teleconference. Public testimony will not be taken.

Purpose: In accordance with section 10(a)(2) of the Federal Advisory Committee Act, the Social Security Administration (SSA) announces a meeting of the Ticket to Work and Work Incentives Improvement Act (TWWIIA) Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commission on matters specified in section 101(f)(2)(B) of that Act, including certain issues related to the Ticket to Work and Self-Sufficiency Program established under section 101(a) of that Act.

Interested parties are invited to attend the meeting. The Panel will use the teleconference to conduct full Panel deliberations on the implementation of TWWIIA and conduct administrative business. Public testimony will not be taken.

The Panel will meet by teleconference commencing Friday, June 22 at 1:30 p.m. to 4 p.m., Eastern time.

Agenda: The Panel will deliberate on the Advice Report on the NPRM and SSA's Evaluation Plans as well as a conduct administrative business. The public is invited to participate by coming in to the address listed above or calling in to the scheduled teleconference to listen. No public testimony will be taken. The agenda for this meeting will be posted on the Internet at http://www.ssa.gov/work/panel/ one week prior to the teleconference or can be received in advance electronically or by fax upon request. Records are being kept of all Panel proceedings and will be available for public inspection by appointment at the Panel office.

Contact Information: Anyone requiring information regarding the Panel should contact the TWWIIA Panel staff by mail addressed to Ticket to Work and Work Incentives Advisory Panel Staff, Social Security Administration, 700 Virginia Avenue, SW., Washington, DC, 20024, telephone contact with Kristen Breland at (202) 358-6423, fax at (202) 358-6440 or e-mail to TWWIIAPanel@ssa.gov.

Dated: June 6, 2001.
Deborah M. Morrison,
Designated Federal Officer.

[FR Doc. 01-14729 Filed 6-8-01; 8:45 am]

BILLING CODE 4191-02-M